ENVIRONMENTAL PROTECTION AGENCY

[FRL-10021-03-Region 8]

Public Water System Supervision Program Revision for the State of Colorado

AGENCY: Environmental Protection Agency (EPA).

ACTION: Notice.

SUMMARY: Public notice is hereby given that the state of Colorado has revised its Public Water System Supervision (PWSS) Program by adopting federal regulations for the Revised Total Coliform Rule (RTCR) that correspond to the National Primary Drinking Water Regulations (NPDWR). EPA has reviewed Colorado's regulations and determined they are no less stringent than the federal regulations. EPA is proposing to approve the RTCR for Colorado.

This approval action does not extend to public water systems in Indian country. Please see SUPPLEMENTARY INFORMATION, Unit B.

DATES: Any interested parties may request a public hearing on this determination by April 12, 2021. Please see SUPPLEMENTARY INFORMATION, Unit C, for details. Should no timely and appropriate request for a hearing be received, and the Regional Administrator (RA) does not elect to hold a hearing on his/her own motion, this determination shall become applicable April 12, 2021 and no further notice will be issued.

ADDRESSES: Requests for a public hearing should be submitted to: Robert Clement by email at clement.robert@epa.gov or by phone (303) 312-6653.

FOR FURTHER INFORMATION CONTACT: Robert Clement, Drinking Water B Section, EPA Region 8, Denver, Colorado by email at clement.robert@epa.gov or by phone toll-free at 1-(800) 227-8917 extension 312-6653, or directly at (303) 312-6653.

SUPPLEMENTARY INFORMATION: In accordance with section 1413 of the Safe Drinking Water Act (SDWA), 42 U.S.C. 300g-2, and 40 CFR 142.13, public notice is hereby given that the state of Colorado has revised its PWSS program by adopting federal regulations for the RTCR that correspond to the NPDWR in 40 CFR parts 141 and 142. EPA has reviewed Colorado's regulations and determined they are no less stringent than the federal regulations. EPA is proposing to approve Colorado's primacy revision for the RTCR. This approval action does not extend to public water systems in Indian country as defined in 18 U.S.C. 1151. Please see SUPPLEMENTARY INFORMATION, Unit B.

A. Why are revisions to State programs necessary?

States with primary PWSS enforcement authority must comply with the requirements of 40 CFR part 142 to maintain primacy. They must adopt regulations that are at least as stringent as the NPDWRs at 40 CFR parts 141 and 142, as well as adopt all new and revised NPDWRs in order to retain primacy (40 CFR 142.12(a)).

B. How does this action affect Indian country (18 U.S.C. 1151) in Colorado?

EPA's approval of Colorado's revised PWSS program does not extend to Indian country as defined in 18 U.S.C. 1151. Indian country in Colorado generally includes (1) lands within the exterior boundaries of the following Indian reservations located within Colorado, in part or in full: The Southern Ute Indian Reservation and the Ute Mountain Ute Reservation; (2) any land held in trust by the United States for an Indian tribe; and (3) any other areas which are “Indian country” within the meaning of 18 U.S.C. 1151. EPA or eligible Indian tribes, as appropriate, will retain PWSS program responsibilities over public water systems in Indian country.

C. Requesting a Hearing

Any interested party may request a hearing on this determination within thirty (30) days of this notice. All requests shall include the following information: Name, address, and telephone number of the individual, organization, or other entity requesting a hearing; a brief statement of interest and information to be submitted at the hearing; and a signature of the interested individual or responsible official, if made on behalf of an organization or other entity. Frivolous or insubstantial requests for a hearing may be denied by the RA.

Notice of any hearing shall be given not less than fifteen (15) days prior to the time scheduled for the hearing and will be made by the RA in the Federal Register and in a newspaper of general circulation in the state. A notice will also be sent to both the person(s) requesting the hearing and the state. The hearing notice will include a statement of purpose of the hearing, information regarding time and location for the hearing, and the address and telephone number where interested persons may obtain further information. The RA will issue an order affirming or rescinding the determination upon review of the hearing record.

Please bring this notice to the attention of any persons known by you to have an interest in this determination.

Dated: March 5, 2021.
Debra H. Thomas,
Acting Regional Administrator Region 8.

[FR Doc. 2021-05020 Filed 3-10-21; 8:45 am]

BILLING CODE 6560-50-P